DEPARTMENT OF ENERGY

Federal Energy Regulatory Commission

Combined Notice of Filings

Take notice that the Commission has received the following Natural Gas Pipeline Rate and Refund Report filings:

Filings Instituting Proceedings

Docket Numbers: RP12-512-000.

Applicants: Natural Gas Pipeline Company of America LLC.

Description: Penalty Revenue Crediting Report of Natural Gas Pipeline Company of America LLC.

Filed Date: 3/23/12.

Accession Number: 20120323-5127.

Comments Due: 5 p.m. ET 4/4/12.

Docket Numbers: RP12-513-000.

Applicants: Kern River Gas Transmission Company.

Description: Kern River Gas Transmission Company submits tariff filing per 154.204: 2012 Molycorp Nonconforming to be effective 4/24/2012.

Filed Date: 3/23/12.

Accession Number: 20120323-5131.

Comments Due: 5 p.m. ET 4/4/12.

Docket Numbers: RP12-514-000.

Applicants: Tennessee Gas Pipeline Company, L.L.C.

Description: Tennessee Gas Pipeline Company, L.L.C. submits tariff filing per 154.204: Pro Forma Scheduling Priorities Secondary/Primary Delivery Points to be effective 12/31/9998.

Filed Date: 3/23/12.

Accession Number: 20120323-5145.

Comments Due: 5 p.m. ET 4/4/12.

Docket Numbers: RP12-515-000.

Applicants: Texas Gas Transmission, LLC.

Description: Southwestern Short Term Amendments to Negotiated Rate Agreements to be effective 3/27/2012.

Filed Date: 3/26/12.

Accession Number: 20120326-5095.

Comments Due: 5 p.m. ET 4/9/12.

Docket Numbers: RP12-516-000.

Applicants: Eastern Shore Natural Gas Company.

Description: Storage Tracker Filing to be effective 3/26/2012.

Filed Date: 3/26/12.

Accession Number: 20120326-5128.

Comments Due: 5 p.m. ET 4/9/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1566-011.

Applicants: Tennessee Gas Pipeline Company, L.L.C.

Description: Rate Case 2011—Settlement Implementation Clean Up Sheet No. 19 Corrected to be effective 2/1/2012.

Filed Date: 2/24/12.

Accession Number: 20120224-5153.

Comments Due: 5 p.m. ET 3/30/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 27, 2012.
Nathaniel J. Davis, Sr.,
Deputy Secretary.

[FR Doc. 2012-8027 Filed 4-3-12; 8:45 am]

BILLING CODE 6717-01-P